DEPARTMENT OF LABOR

Agency Information Collection Activities; Submission for OMB Review; Comment Request; Application for a Permit To Fire More Than 20 Boreholes and for the Use of Nonpermissible Blasting Units, Explosives, and Shot-Firing Units; Posting Notices of Misfires

ACTION: Notice of availability; request for comments.

SUMMARY: The Department of Labor (DOL) is submitting this Mine Safety and Health Administration (MSHA)-sponsored information collection request (ICR) to the Office of Management and Budget (OMB) for review and approval in accordance with the Paperwork Reduction Act of 1995 (PRA). Public comments on the ICR are invited.

DATES: The OMB will consider all written comments that the agency receives on or before December 28, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Nora Hernandez by telephone at 202-693-8633, or by email at DOL_PRA_PUBLIC@dol.gov.

SUPPLEMENTARY INFORMATION: Under section 313 of the Federal Mine Safety and Health Act of 1977 (Mine Act), 30 U.S.C. 873, any explosives used in underground coal mines must be permissible. The Mine Act also provides that, under safeguards prescribed by the Secretary, the firing of more than 20 shots and the use of nonpermissible explosives in sinking shafts and slopes from the surface in rock may be permitted. 30 CFR 75.1321 outlines the procedures by which a permit may be issued for the firing of more than 20 boreholes and for the use of nonpermissible shot-firing units in underground coal mines. At surface coal mines and surface work areas of underground coal mines, 30 CFR 77.1909-1 outlines the procedures by which a coal mine operator may apply for a permit to use non-permissible explosives and shot-firing units in the blasting of rock during the development of shafts or slopes. Additionally, in the event of a misfire of explosives, 30 CFR 75.1327 requires that a qualified person post a warning to prohibit entry at each accessible entrance to the affected area. For additional substantive information about this ICR, see the related notice published in the Federal Register on August 19, 2022 (87 FR 51149).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Application for a Permit to Fire More than 20 Boreholes and for the Use of Nonpermissible Blasting Units, Explosives, and Shot-firing Units; Posting Notices of Misfires.

OMB Control Number: 1219-0025.

Affected Public: Businesses or other for-profits institutions.

Total Estimated Number of Respondents: 41.

Total Estimated Number of Responses: 42.

Total Estimated Annual Time Burden: 41 hours.

Total Estimated Annual Other Costs Burden: $150.

(Authority: 44 U.S.C. 3507(a)(1)(D).)

Nora Hernandez,
Departmental Clearance Officer.

[FR Doc. 2022-25875 Filed 11-25-22; 8:45 am]

BILLING CODE 4510-43-P